DEPARTMENT OF TRANSPORTATION

Research and Innovative Technology Administration

University Transportation Centers Program

AGENCY: Research and Innovative Technology Administration, DOT.

ACTION: Notice of Funding Availability.

SUMMARY: The United States Department of Transportation is publishing this notice to give eligible nonprofit institutions of higher education located in Federal Regions 3 and 10 advance notice that they will have an opportunity to submit applications for a grant as a Regional Center in the University Transportation Centers (UTCs) program. Funds for this grant program are authorized beginning on October 1, 2012. In the near future, the Department, via the Research and Innovative Technology Administration (RITA), will release a grant solicitation through Grants.gov and on the UTC Program's Web site, http://utc.dot.gov, describing the competition and deadlines for applications. Proposals will be evaluated through a competitive process on the basis of demonstrated ability, research, technology and education resources, leadership, multi-modal research capability, and commitment to transportation workforce development programs, technology transfer capability, the use of peer review, and effective partnerships to advance diversity.

FOR FURTHER INFORMATION CONTACT: Dr. Kevin Womack, Associate Administrator for Research, Development and Technology, mail code RDT-10, Research and Innovative Technology Administration (RITA), 1200 New Jersey Avenue SE., Washington, DC 20590-0001. Telephone Number (202) 366-5306 or Email Kevin.Womack@dot.gov.

SUPPLEMENTARY INFORMATION:

Table of Contents

I. Background

II. Eligibility

III. Qualification Requirements

IV. Application Process

V. Program Funding and Award

VI. Use of Grant Funds

I. Background

The Moving Ahead for Progress in the 21st Century Act (MAP-21, Pub. L. 112-141, Sec. 51001(a)(5)) authorizes $72.5 million for each of the fiscal years 2013 (FY 2013) and 2014 (FY 2014) for up to 35 competitive grants for UTCs. The FY 2013 and FY 2014 funds are subject to an annual obligation limitation. The amount of budget authority available in a given year may be less than the amount authorized for that fiscal year.

MAP-21 authorizes the Secretary of Transportation to make grants to eligible nonprofit institutions of higher education to establish and operate UTCs. RITA will administer the program (49 CFR 1.99(e)). The Department will solicit competitive grant applications for two regional university transportation centers, one each in Federal Regions 3 and 10. Previously, the Department solicited grant applications for these two regions (see 77 FR 60012); however, the Department did not select any of the submitted applications. UTCs will be selected by the Secretary, in consultation as appropriate with the Administrators of the Federal Highway Administration, and the Federal Transit Administration. (49 U.S.C. 5505(b)(4)(B) as amended by Pub. L. 112-141, Sec. 52009 (effective Oct. 1, 2012)).

The Department plans to competitively select two regional UTCs, one each in Federal Regions 3 and 10, with an award of $2,592,500 each.

The role of each university transportation center is to advance transportation expertise and technology in the varied disciplines that comprise the field of transportation through education, research, and technology transfer activities; to provide for a critical transportation knowledge base outside of the Department of Transportation; and to address critical workforce needs and educate the next generation of transportation leaders.

II. Eligibility

A UTC must be located in the United States or its territories. A UTC may be a single nonprofit institution of higher education, or a consortium of two or more nonprofit institutions of higher education. A regional UTC must be located in the region for which the grant is sought. (49 U.S.C. 5505(c)(3)(A) as amended by Pub. L. 112-141, Sec. 52009 (effective Oct. 1, 2012)). If a regional UTC is a consortium of two or more nonprofit institutions of higher education, then each institution in the consortium must be located in the region for which the grant is sought.

For Region 3, the eligible states are: Delaware, District of Columbia, Maryland, Pennsylvania, Virginia, and West Virginia. For Region 10, the eligible states are: Alaska, Idaho, Oregon, and Washington.

Institutions may collaborate with state DOTs, the private sector, and community, junior, or technical colleges; however, these organizations or others that are not U.S. nonprofit institutions of higher education may not be considered members of a consortium. The grantee institution (lead institution in the case of a consortium of institutions) will be the direct and primary recipient of UTC program funds, and must perform a substantive role in carrying out UTC activities, and not serve merely as a conduit for awards to other parties.

MAP-21 limits the circumstances in which an institution may receive more than one grant. (49 U.S.C. 5505(b)(2) as amended by Pub. L. 112-141, Sec. 52009 (effective Oct. 1, 2012)). These restrictions include:

A lead institution of a consortium that receives a grant for a National Center is not eligible to receive an additional grant as a lead institution or a member of a consortium for a Regional Center.

A member of a consortium that receives a grant for a National Center is not eligible to receive a grant as a sole institution for a Regional Center or as a lead institution for a Regional Center.

III. Matching Requirements

Each UTC is required to obtain matching funds from non-federal sources. The amount of matching funds required for a regional UTC is 100%. The matching amounts may include the amounts made available to a grant recipient under 23 U.S.C. 504(b) or 505. (49 U.S.C. 5505(c)(3)(D)(ii) as amended by Pub. L. 112-141, Sec. 52009 (effective Oct. 1, 2012)).

IV. Application Process

Full and open competition. US DOT will conduct the UTC program selection based on principles of full and open competition. Two regional centers, one each in Federal Regions 3 and 10, will be selected from the pool of applicants.

Subject Matter Focus. The two Regional UTCs (one each in Federal Regions 3 and 10 receiving $2,592,500/year each) are required to focus on highway and/or public transportation research and education (49 U.S.C. 5505(c)(3)(B)(iii) as amended by Pub. L. 112-141, Sec. 52009 (effective Oct. 1, 2012)). Regional UTCs must be able to conduct research in an area of focus from among “nonexclusive candidate topic areas established by the Secretary that address the research priorities identified in section 503 of title 23” (49 U.S.C. 5505(b)(4)(A) as amended by Pub. L. 112-141, Sec. 52009 (effective Oct. 1, 2012)). An applicant for a regional UTC must designate the region in which it is applying.

The Department seeks a balanced portfolio of UTCs that supports the Secretary of Transportation's Strategic Goals, contains different types and/or sizes of universities, and focuses on improving overall system performance using multiple transportation resources.

Selection criteria. The Department will evaluate and select UTC applicants based on the nine MAP-21 selection criteria:

“(i) the demonstrated ability of the recipient to address each specific topic area described in the research and strategic plans of the recipient;

“(ii) the demonstrated research, technology transfer, and education resources available to the recipient to carry out this section;

“(iii) the ability of the recipient to provide leadership in solving immediate and long-range national and regional transportation problems;

“(iv) the ability of the recipient to carry out research, Education, and technology transfer activities that are multimodal and multidisciplinary in scope;

“(v) the demonstrated commitment of the recipient to carry out transportation workforce development programs through—

“(I) degree-granting programs; and

“(II) outreach activities to attract new entrants into the transportation field;

“(vi) the demonstrated ability of the recipient to disseminate results and spur the implementation of transportation research and education programs through national or statewide continuing education programs;

“(vii) the demonstrated commitment of the recipient to the use of peer review principles and other research best practices in the selection, management, and dissemination of research projects;

“(viii) the strategic plan submitted by the recipient describing the proposed research to be carried out by the recipient and the performance metrics to be used in assessing the performance of the recipient in meeting the stated research, technology transfer, education, and outreach goals; and

“(ix) the ability of the recipient to implement the proposed program in a cost-efficient manner, such as through cost sharing and overall reduced overhead, facilities, and administrative costs.”

(49 U.S.C. 5505(b)(4)(B) as amended by Pub. L. 112-141 Sec. 52009 (effective Oct. 1, 2012)).

Additional selection criteria applying to regional UTCs are:

The institution (or lead institution in the case of a consortium) must have a well-established, nationally recognized program in research and education, as shown by:

(i) recent expenditures by the institution in highway or public transportation research;

(ii) a historical track record of awarding graduate degrees in professional fields closely related to highways and public transportation; and

(iii) an experienced faculty who specialize in professional fields closely related to highways and public transportation (49 U.S.C. 5505(c)(3)(B) as amended by Pub. L. 112-141 Sec. 52009 (effective Oct. 1, 2012)).

External Stakeholders. The Department will consult with external stakeholders (including the Transportation Research Board of the National Academy of Sciences, among others), to the maximum extent practicable, to evaluate and competitively review all proposals (49 U.S.C. 5505(b)(6) as amended by Pub. L. 112-141, Sec. 52009 (effective Oct. 1, 2012)).

V. Program Funding and Award

UTCs will be selected by the Secretary, in consultation as appropriate with the Administrators of the Federal Highway Administration and the Federal Transit Administration.

VI. Use of Grant Funds

According to the terms of the grant agreement, grantees will have until September 30, 2017 to expend FY 2013 funds and, assuming availability, FY 2014 funds.

Issued in Washington, DC, on November 12, 2013.
Gregory D. Winfree,
Administrator, Research and Innovative Technology Administration.

[FR Doc. 2013-27421 Filed 11-15-13; 8:45 am]

BILLING CODE 4910-HY-P